DEPARTMENT OF THE INTERIOR

Bureau of Land Management

[LLMT926000-L14200000.BK0000.LXSILITS0000; 14XL1109AF]

Notice of Filing of Plats of Survey; Montana

AGENCY: Bureau of Land Management, Interior.

ACTION: Notice of filing of plats of survey.

SUMMARY: The Bureau of Land Management (BLM) will file the plat of survey of the lands described below in the BLM Montana State Office, Billings, Montana, on October 29, 2014.

DATES: Protests of the survey must be filed before October 29, 2014 to be considered.

ADDRESSES: Protests of the survey should be sent to the Branch of Cadastral Survey, Bureau of Land Management, 5001 Southgate Drive, Billings, Montana 59101-4669.

FOR FURTHER INFORMATION CONTACT: Blaise Lodermeier, Cadastral Surveyor, Branch of Cadastral Survey, Bureau of Land Management, 5001 Southgate Drive, Billings, Montana 59101-4669, telephone (406) 896-5128 or (406) 896-5007, bloderme@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed by the direction of the Chief Cadastral Surveyor for Montana in response to litigation against the United States Government for Quiet Title. The survey was needed to identify the boundaries of Federal Interest lands and to determine if a title conflict existed with Amended Certificate of Survey 37, on file in the Treasure County Courthouse, Hysham, MT.

The lands we surveyed are:

Principal Meridian, Montana

T. 6 N., R. 35 E.

The plat, in one sheet, representing the dependent resurvey of a portion of the subdivisional lines and the adjusted original meanders of the former left bank of the Yellowstone River, through section 28 and the survey of the meanders of the present left bank of the Yellowstone River, through section 28, Township 6 North, Range 35 East, Principal Meridian, Montana, was accepted September 16, 2014.

We will place a copy of the plat, in one sheet in the open files. They will be available to the public as a matter of information. If the BLM receives a protest against this survey, as shown on this plat, in one sheet, prior to the date of the official filing, we will stay the filing pending our consideration of the protest. We will not officially file this plat, in one sheet, until the day after we have accepted or dismissed all protests and they have become final, including decisions or appeals.

Authority: 43 U.S.C. Chap. 3.

Joshua F. Alexander,
Chief, Branch of Cadastral Survey, Division of Energy, Minerals and Realty.

[FR Doc. 2014-23087 Filed 9-26-14; 8:45 am]

BILLING CODE 4310-DN-P